NATIONAL AERONAUTICS AND SPACE ADMINISTRATION

[Notice (00-77)]

NASA Advisory Council (NAC), Aero-Space Technology Advisory Committee (ASTAC); Meeting

AGENCY: National Aeronautics and Space Administration.

ACTION: Notice of meeting.

SUMMARY: In accordance with the Federal Advisory Committee Act, Pub. L. 92-463, as amended, the National Aeronautics and Space Administration announces a forthcoming meeting of the NASA Advisory Council, Aero-Space Technology Advisory Committee.

DATES: Tuesday, August 15, 2000, 8:30 a.m. to 5:00 p.m.; and Wednesday, August 16, 2000, 8:00 a.m. to 12:00 Noon.

ADDRESSES: National Aeronautics and Space Administration, Room 6H46, 300 E Street, SW, Washington, DC 20546.

FOR FURTHER INFORMATION CONTACT: Ms. Mary-Ellen McGrath, Office of Aerospace Technology, National Aeronautics and Space Administration, Washington, DC 20546 (202/358-4729).

SUPPLEMENTARY INFORMATION: The meeting will be open to the public up to the seating capacity of the room. The agenda for the meeting is as follows:

—Status of Aerospace Technology Programs

—Revolutionary Concepts (REVCON)

—Status of National R&D Investment Plan for “Aviation Systems After Next”

—Integrated Presentation on NASA's Aviation Safety Program

—Government Performance Results Act (GPRA) Status

—National Transonic Facility (NTF)

—Subcommittee Reports

It is imperative that the meeting be held on these dates to accommodate the scheduling priorities of the key participants.

Dated: July 3, 2000.
Matthew M. Crouch,
Advisory Committee Management Officer, National Aeronautics and Space Administration.

[FR Doc. 00-17304 Filed 7-7-00; 8:45 am]

BILLING CODE 7510-01-P